PEACE CORPS

Information Collection Requests Under OMB Review

AGENCY: Peace Corps.

ACTION: Notice of public use form review request to the Office of Management and Budget.

SUMMARY: The Associate Director for Management invites comments on information collection requests as required pursuant to the Paperwork Reduction Act (44 U.S.C. Chapter 35). This notice announces that the Peace Corps has submitted to the Office of Management and Budget an emergency request to approve the use of the Peace Corps/Crisis Corps Volunteer Application Form (0420-0533) by May 2, 2000. Additionally, the Peace Corps will be seeking three year OMB approval using the standard review procedures. A copy of the information collection may be obtained from Joan Timoney, Director of the Crisis Corps, Peace Corps, 1111 20th Street, NW., Washington, DC 20526. Ms. Timoney may be contacted by telephone at 202-692-2250. The Peace Corps invites comments on whether the proposed collection of information is necessary for proper performance of the functions of the Peace Corps, including whether the information will have practical use; the accuracy of the agency's estimate of the burden of the proposed collection of information, including the validity of the methodology and assumptions used; ways to enhance the quality, utility and clarity of the information to be collected; and, ways to minimize the burden of the collection of information on those who are to respond, including through the use of automated collection techniques, when appropriate, and other forms of information technology. Comments on these forms should be addressed to Desk Officer for the Peace Corps, Office of Management and Budget, NEOB, Washington, DC 20503.

Dated: February 15, 2000.
Michael J. Kole,
Director of Administrative Services.

[FR Doc. 00-4546 Filed 3-2-00; 8:45 am]

BILLING CODE 6051-01-M